DEPARTMENT OF HOMELAND SECURITY

Coast Guard

33 CFR Part 165

[CGD09-07-005]

RIN 1625-AA00

Safety Zones; Annual Events Requiring Safety Zones in the Captain of the Port Lake Michigan Zone

AGENCY: Coast Guard, DHS.

ACTION: Final rule.

SUMMARY: The Coast Guard has established permanent safety zones for annual events in the Captain of the Port Lake Michigan zone. This rule will restrict vessels from portions of water and shore areas during events that pose a hazard to public safety. The safety zones established by this final rule are necessary to protect spectators, participants, and vessels from the hazards associated with fireworks displays, air shows, and other events.

DATES: This rule is effective June 27, 2007.

ADDRESSES: Comments and material received from the public, as well as documents indicated in this preamble as being available in the docket, are part of docket [CGD09-07-005] and are available for inspection or copying at Coast Guard Sector Lake Michigan (spw), 2420 South Lincoln Memorial Drive, Milwaukee, WI 53207 between 8 a.m. and 3 p.m., Monday through Friday, except Federal holidays.

FOR FURTHER INFORMATION CONTACT: CWO Brad Hinken, Prevention Department, Coast Guard Sector Lake Michigan, Milwaukee, WI at (414) 747-7154.

SUPPLEMENTARY INFORMATION:

Regulatory Information

On May 4, 2007, we published a notice of proposed rulemaking (NPRM) entitled “Safety Zones; Annual events requiring safety zones in the Captain of the Port Lake Michigan zone” in the Federal Register (72 FR 25219). We received no letters commenting on the proposed rule. No public meeting was requested, and none was held.

Under 5 U.S.C. 553(d)(3), the Coast Guard finds that good cause exists for making this rule effective less than 30 days after publication in the Federal Register. Any delay encountered in the regulation's effective date would be contrary to the public interest since the safety zone is needed to protect the maritime public from any potential hazards associated with fireworks displays, air shows, or other events.

Background and Purpose

In 2005 the Coast Guard consolidated the Captain of the Port Milwaukee Zone and the Captain of the Port Chicago Zone and realigned the boundaries of the Captain of the Port Sault Ste. Marie Zone to create the Captain of the Port Lake Michigan Zone. This rule consolidates the regulations found in 33 CFR part 165.909, Safety Zones; Annual fireworks events in the Captain of the Port Milwaukee Zone and 33 CFR 165.918, Safety Zones; Annual fireworks events in the Captain of the Port Chicago Zone into one rule that includes all safety zones for annual events in the Captain of the Port Lake Michigan Zone. This rule also adds several annual events not previously listed in 33 CFR part 165 and removes several events that no longer occur annually or do not require a safety zone. These safety zones are necessary to protect vessels and people from the hazards associated with fireworks displays, air shows, or other events. Such hazards include obstructions to the waterway that may cause marine casualties and the explosive danger of fireworks and debris falling into the water that may cause death or serious bodily harm.

Discussion of Comments and Changes

No comments were received concerning this final rule. No changes have been made.

Regulatory Evaluation

This rule is not a “significant regulatory action” under section 3(f) of Executive Order 12866, Regulatory Planning and Review, and does not require an assessment of potential costs and benefits under section 6(a)(3) of that Order. The Office of Management and Budget has not reviewed it under that Order.

We have determined the economic impact of this rule to be so minimal that a full Regulatory Evaluation is unnecessary. The Coast Guard's use of these safety zones will be periodic in nature, of short duration, and designed to minimize the impact on navigable waters. These safety zones will only be enforced immediately before and during the time the events are occurring. Furthermore, these safety zones have been designed to allow vessels to transit unrestricted to portions of the waterways not affected by the safety zones. The Coast Guard expects insignificant adverse impact to mariners from the activation of these safety zones.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

Assistance for Small Entities

Under section 213(a) of the Small Business Regulatory Enforcement Fairness Act of 1996 (Pub. L. 104-121), we offered to assist small entities in understanding this rule so that they can better evaluate its effects on them and participate in the rulemaking. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

The Coast Guard recognizes the treaty rights of Native American tribes. Moreover, the Coast Guard is committed to working with Tribal Governments to implement local policies and to mitigate tribal concerns. We have determined that this safety zone and fishing rights protection need not be incompatible. We have also determined that this rule does not have tribal implications under Executive Order 13175, Consultation and Coordination with Indian Tribal Governments, because it does not have a substantial direct effect on one or more Indian tribes, on the relationship between the Federal Government and Indian tribes, or on the distribution of power and responsibilities between the Federal Government and Indian tribes. Nevertheless, Indian Tribes that have questions concerning the provisions of this rule or options for compliance are encouraged to contact the point of contact listed under FOR FURTHER INFORMATION CONTACT.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD and Department of Homeland Security Management Directive 5100.1, which guide the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(g), of the Instruction, from further environmental documentation.

A final “Environmental Analysis Check List” and a final “Categorical Exclusion Determination” are available in the docket where indicated under ADDRESSES.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for Part 165 continues to read as follows:

Authority: 33 U.S.C. 1226, 1231; 46 U.S.C. Chapter 701; 50 U.S.C. 191, 195; 33 CFR 1.05-1, 6.04-1, 6.04-6, and 160.5; Pub. L. 107-295, 116 Stat. 2064; Department of Homeland Security Delegation No. 0170.1.

2. Add § 165.929 to read as follows:

§ 165.929 Safety Zones; Annual events requiring safety zones in the Captain of the Port Lake Michigan zone.

(a) Safety Zones. The following areas are designated safety zones:

(1) St. Patrick's Day Fireworks; Manitowoc, WI. (i) Location. All waters of the Manitowoc River and Manitowoc Harbor, near the mouth of the Manitowoc River on the south shore, within the arc of a circle with a 100-foot radius from the fireworks launch site located in position 44°05′30″ N, 087°39′12″ W (NAD 83).

(ii) Enforcement date and time. The third Saturday of March; 5:30 p.m. to 7 p.m.

(2) Michigan Aerospace Challenge Sport Rocket Launch; Muskegon, MI. (i) Location. All waters of Muskegon Lake, near the West Michigan Dock and Market Corp facility, within the arc of a circle with a 1500-yard radius from the rocket launch site located in position 43°14′21″ N, 086°15′35″ W (NAD 83).

(ii) Enforcement date and time. The last Saturday of April; 8 a.m. to 4 p.m.

(3) Tulip Time Festival Fireworks; Holland, MI. (i) Location. All waters of Lake Macatawa, near Kollen Park, within the arc of a circle with a 1000-foot radius from the fireworks launch site in position 42°47′23″ N, 086°07′22″ W (NAD 83).

(ii) Enforcement date and time. The first Friday of May; 7 p.m. to 11 p.m. If the Friday fireworks are cancelled due to inclement weather, then this section will be enforced on the first Saturday of May; 7 p.m. to 11 p.m.

(4) Rockets for Schools Rocket Launch; Sheboygan, WI. (i) Location. All waters of Lake Michigan and Sheboygan Harbor, near the Sheboygan South Pier, within the arc of a circle with a 1500-yard radius from the rocket launch site located with its center in position 43°44′55″ N, 087°41′52″ W (NAD 83).

(ii) Enforcement date and time. The first Saturday of May; 8 a.m. to 5 p.m.

(5) Celebrate De Pere; De Pere, WI. (i) Location. All waters of the Fox River, near Voyageur Park, within the arc of a circle with a 500-foot radius from the fireworks launch site located in position 44°27′10″ N, 088°03′50″ W (NAD 83).

(ii) Enforcement date and time. The Sunday before Memorial Day; 8:30 p.m. to 10 p.m.

(6) [Reserved]

(7) River Splash; Milwaukee, WI. (i) Location. All waters of the Milwaukee River, near Pere Marquette Park, within the arc of a circle with a 300-foot radius from the fireworks launch site located on a barge in position 43°02′32″ N, 087°54′45″ W (NAD 83).

(ii) Enforcement date and time. The first Friday and Saturday of June; 9 p.m. to 11 p.m. each day.

(8) International Bayfest; Green Bay, WI. (i) Location. All waters of the Fox River, near the Western Lime Company 1.13 miles above the head of the Fox River, within the arc of a circle with a 1000-foot radius from the fireworks launch site located in position 44°31′24″ N, 088°00′42″ W (NAD 83).

(ii) Enforcement date and time. The second Friday of June; 9 p.m. to 11 p.m.

(9) Harborfest Music and Family Festival; Racine, WI. (i) Location. All waters of Lake Michigan and Racine Harbor, near the Racine Launch Basin Entrance Light, within the arc of a circle with a 200-foot radius from the fireworks launch site located in position 42°43′43″ N, 087°46′40″ W (NAD 83).

(ii) Enforcement date and time. Friday and Saturday of the third complete weekend of June; 9 p.m. to 11 p.m. each day.

(10) Jordan Valley Freedom Festival Fireworks; East Jordan, MI. (i) Location. All waters of Lake Charlevoix, near the City of East Jordan, within the arc of a circle with a 1000-foot radius from the fireworks launch site in position 45°09′18″ N, 085°07′48″ W (NAD 83).

(ii) Enforcement date and time. Saturday of the third weekend of June; 9 p.m. to 11 p.m.

(11) Spring Lake Heritage Festival Fireworks; Spring Lake, MI. (i) Location. All waters of the Grand River, near buoy 14A, within the arc of a circle with a 500-foot radius from the fireworks launch site located on a barge in position 43°04′24″ N, 086°12′42″ W (NAD 83).

(ii) Enforcement date and time. The third Saturday of June; 9 p.m. to 11 p.m.

(12) Elberta Solstice Festival Fireworks; Elberta, MI. (i) Location. All waters of Betsie Bay, near Waterfront Park, within the arc of a circle with a 500-foot radius from the fireworks launch site located in position 44°37′43″ N, 086°14′27″ W (NAD 83).

(ii) Enforcement date and time. The last Saturday of June; 9 p.m. to 11 p.m.

(13) [Reserved]

(14) Pentwater July Third Fireworks; Pentwater, MI. (i) Location. All waters of Lake Michigan and the Pentwater Channel within the arc of a circle with a 1000-foot radius from the fireworks launch site located in position 43°46′57″ N, 086°26′38″ W (NAD 83).

(ii) Enforcement date and time. July 3; 9 p.m. to 11 p.m. If the July 3 fireworks are cancelled due to inclement weather, then this section will be enforced July 4; 9 p.m. to 11 p.m.

(15) Taste of Chicago Fireworks; Chicago, IL. (i) Location. All waters of Monroe Harbor and Lake Michigan within the arc of a circle with a 1000-foot radius from the fireworks launch site located on a barge in position 41°52′41″ N, 087°36′37″ W (NAD 83).

(ii) Enforcement date and time. July 3; 9 p.m. to 11 p.m. If the July 3 fireworks are cancelled due to inclement weather, then this section will be enforced July 4; 9 p.m. to 11 p.m.

(16) U.S. Bank Fireworks; Milwaukee, WI. (i) Location. All waters of Milwaukee Harbor, in the vicinity of Veterans Park, within the arc of a circle with a 1000-foot radius from the fireworks launch site located on a barge in position 43°02′27″ N, 087°53′45″ W (NAD 83).

(ii) Enforcement date and time. July 3; 9 p.m. to 11 p.m. If the July 3 fireworks are cancelled due to inclement weather, then this section will be enforced July 4; 9 p.m. to 11 p.m.

(17) National Cherry Festival Fourth of July Celebration Fireworks; Traverse City, MI. (i) Location. All waters of the West Arm of Grand Traverse Bay within the arc of a circle with a 1000-foot radius from the fireworks launch site located on a barge in position 44°46′12″ N, 085°37′06″ W (NAD 83).

(ii) Enforcement date and time. July 4; 9 p.m. to 11 p.m. If the July 4 fireworks are cancelled due to inclement weather, then this section will be enforced July 5; 9 p.m. to 11 p.m.

(18) Harbor Springs Fourth of July Celebration Fireworks; Harbor Springs, MI. (i) Location. All waters of Lake Michigan and Harbor Springs Harbor within the arc of a circle with a 1000-foot radius from the fireworks launch site located on a barge in position 45°25′30″ N, 084°59′06″ W (NAD 83).

(ii) Enforcement date and time. July 4; 9 p.m. to 11 p.m. If the July 4 fireworks are cancelled due to inclement weather, then this section will be enforced July 5; 9 p.m. to 11 p.m.

(19) Bay Harbor Yacht Club Fourth of July Celebration Fireworks; Petoskey, MI. (i) Location. All waters of Lake Michigan and Bay Harbor Lake within the arc of a circle with a 500-foot radius from the fireworks launch site located on a barge in position 45°21′50″ N, 085°01′37″ W (NAD 83).

(ii) Enforcement date and time. July 3; 9 p.m. to 11 p.m. If the July 3 fireworks are cancelled due to inclement weather, then this section will be enforced July 4; 9 p.m. to 11 p.m.

(20) Petoskey Fourth of July Celebration Fireworks; Petoskey, MI. (i) Location. All waters of Lake Michigan and Petoskey Harbor, in the vicinity of Bay Front Park, within the arc of a circle with a 1000-foot radius from the fireworks launch site located in position 45°22′40″ N, 084°57′30″ W (NAD 83).

(ii) Enforcement date and time. July 4; 9 p.m. to 11 p.m. If the July 4 fireworks are cancelled due to inclement weather, then this section will be enforced July 5; 9 p.m. to 11 p.m.

(21) Boyne City Fourth of July Celebration Fireworks; Boyne City, MI. (i) Location. All waters of Lake Charlevoix, in the vicinity of Veterans Park, within the arc of a circle with a 1400-foot radius from the fireworks launch site located in position 45°13′30″ N, 085°01′40″ W (NAD 83).

(ii) Enforcement date and time. July 4; 9 p.m. to 11 p.m. If the July 4 fireworks are cancelled due to inclement weather, then this section will be enforced July 5; 9 p.m. to 11 p.m.

(22) Independence Day Fireworks; Manistee, MI. (i) Location. All waters of Lake Michigan, in the vicinity of the First Street Beach, within the arc of a circle with a 1000-foot radius from the fireworks launch site located in position 44°14′51″ N, 086°20′46″ W (NAD 83)

(ii) Enforcement date and time. July 3; 9 p.m. to 11 p.m. If the July 3 fireworks are cancelled due to inclement weather, then this section will be enforced July 4; 9 p.m. to 11 p.m.

(23) Frankfort Independence Day Fireworks; Frankfort, MI. (i) Location. All waters of Lake Michigan and Frankfort Harbor, in the vicinity of the north breakwater, within the arc of a circle with a 1000-foot radius from the fireworks launch site located in position 44°38′00″ N, 086°14′50″ W (NAD 83).

(ii) Enforcement date and time. July 4; 9 p.m. to 11 p.m. If the July 4 fireworks are cancelled due to inclement weather, then this section will be enforced July 5; 9 p.m. to 11 p.m.

(24) Freedom Festival Fireworks; Ludington, MI. (i) Location. All waters of Lake Michigan and Ludington Harbor, in the vicinity of the Loomis Street Boat Ramp, within the arc of a circle with a 1000-foot radius from the fireworks launch site located in position 43°57′16″ N, 086°27′42″ W (NAD 83).

(ii) Enforcement date and time. July 4; 9 p.m. to 11 p.m. If the July 4 fireworks are cancelled due to inclement weather, then this section will be enforced July 5; 9 p.m. to 11 p.m.

(25) White Lake Independence Day Fireworks; Montague, MI. (i) Location. All waters of White Lake, in the vicinity of the Montague boat launch, within the arc of a circle with a 1000-foot radius from the fireworks launch site located in position 43°24′33″ N, 086°21′28″ W (NAD 83).

(ii) Enforcement date and time. July 4; 9 p.m. to 11 p.m. If the July 4 fireworks are cancelled due to inclement weather, then this section will be enforced July 5; 9 p.m. to 11 p.m.

(26) Muskegon Summer Celebration July Fourth Fireworks; Muskegon, MI. (i) Location. All waters of Muskegon Lake, in the vicinity of Heritage Landing, within the arc of a circle with a 1000-foot radius from a fireworks launch site located on a barge in position 43°14′00″ N, 086°15′50″ W (NAD 83).

(ii) Enforcement date and time. July 4; 9 p.m. to 11 p.m. If the July 4 fireworks are cancelled due to inclement weather, then this section will be enforced July 5; 9 p.m. to 11 p.m.

(iii) Impact on Special Anchorage Area regulations: Regulations for that portion of the Muskegon Lake East Special Anchorage Area, as described in 33 CFR 110.81(b), which are overlapped by this regulation, are suspended during this event. The remaining area of the Muskegon Lake East Special Anchorage Area not impacted by this regulation remains available for anchoring during this event.

(27) Grand Haven Jaycees Annual Fourth of July Fireworks; Grand Haven, MI. (i) Location. All waters of The Grand River between longitude 087°14′00″ W, near The Sag, then west to longitude 087°15′00″ W, near the west end of the south pier (NAD 83).

(ii) Enforcement date and time. July 4; 9 p.m. to 11 p.m. If the July 4 fireworks are cancelled due to inclement weather, then this section will be enforced July 5; 9 p.m. to 11 p.m.

(28) Celebration Freedom Fireworks; Holland, MI. (i) Location. All waters of Lake Macatawa, in the vicinity of Kollen Park, within the arc of a circle with a 1000-foot radius from the fireworks launch site located in position 42°47′23″ N, 086°07′22″ W (NAD 83).

(ii) Enforcement date and time. July 4, 2007; 9 p.m. to 11 p.m. Thereafter this section will be enforced the Saturday prior to July 4; 9 p.m. to 11 p.m. If the fireworks are cancelled due to inclement weather, then this section will be enforced the Sunday prior to July 4; 9 p.m. to 11 p.m.

(29) Van Andel Fireworks Show, Holland, MI. (i) Location. All waters of Lake Michigan and the Holland Channel within the arc of a circle with a 1000-foot radius from the fireworks launch site located in position 42°46′21″ N, 086°12′48″ W (NAD 83).

(ii) Enforcement date and time. July 3; 9 p.m. to 11 p.m. If the July 3 fireworks are cancelled due to inclement weather, then this section will be enforced July 4; 9 p.m. to 11 p.m.

(30) Independence Day Fireworks; Saugatuck, MI. (i) Location. All waters of Kalamazoo Lake within the arc of a circle with a 1000-foot radius from the fireworks launch site in position 42°38′52″ N, 086°12′18″ W (NAD 83).

(ii) Enforcement date and time. July 4; 9 p.m. to 11 p.m. If the July 4 fireworks are cancelled due to inclement weather, then this section will be enforced July 5; 9 p.m. to 11 p.m.

(31) South Haven Fourth of July Fireworks; South Haven, MI. (i) Location. All waters of Lake Michigan and the Black River within the arc of a circle with a 1000-foot radius from the fireworks launch site located in position 42°24′08″ N, 086°17′03″ W (NAD 83).

(ii) Enforcement date and time. July 4; 9 p.m. to 11 p.m. If the July 4 fireworks are cancelled due to inclement weather, then this section will be enforced July 5; 9 p.m. to 11 p.m.

(32) St. Joseph Fourth of July Fireworks; St. Joseph, MI. (i) Location. All waters of Lake Michigan and the St. Joseph River within the arc of a circle with a 1000-foot radius from the fireworks launch site located in position 42°06′48″ N, 086°29′5″ W (NAD 83).

(ii) Enforcement date and time. July 4; 9 p.m. to 11 p.m. If the July 4 fireworks are cancelled due to inclement weather, then this section will be enforced July 5; 9 p.m. to 11 p.m.

(33) Town of Dune Acres Independence Day Fireworks; Dune Acres, IN. (i) Location. All waters of Lake Michigan within the arc of a circle with a 1000-foot radius from the fireworks launch site located in position 41°39′23″ N, 087°04′59″ W (NAD 83).

(ii) Enforcement date and time. July 4; 9 p.m. to 11 p.m. If the July 4 fireworks are cancelled due to inclement weather, then this section will be enforced July 5; 9 p.m. to 11 p.m.

(34) Gary Fourth of July Fireworks; Gary, IN. (i) Location. All waters of Lake Michigan, approximately 2.5 miles east of Gary Harbor, within the arc of a circle with a 500-foot radius from the fireworks launch site located in position 41°37′19″ N, 087°14′31″ W (NAD 83).

(ii) Enforcement date and time. July 4; 9 p.m. to 11 p.m. If the July 4 fireworks are cancelled due to inclement weather, then this section will be enforced July 5; 9 p.m. to 11 p.m.

(35) Joliet Independence Day Celebration Fireworks; Joliet, IL. (i) Location. All waters of the Des Plains River, at mile 288, within the arc of a circle with a 500-foot radius from the fireworks launch site located in position 41°31′31″ N, 088°05′15″ W (NAD 83).

(ii) Enforcement date and time. July 3; 9 p.m. to 11 p.m. If the July 3 fireworks are cancelled due to inclement weather, then this section will be enforced July 4; 9 p.m. to 11 p.m.

(36) Glencoe Fourth of July Celebration Fireworks; Glencoe, IL. (i) Location. All waters of Lake Michigan, in the vicinity of Lake Front Park, within the arc of a circle with a 500-foot radius from the fireworks launch site located in position 42°08′17″ N, 087°44′55″ W (NAD 83).

(ii) Enforcement date and time. July 4; 9 p.m. to 11 p.m. If the July 4 fireworks are cancelled due to inclement weather, then this section will be enforced July 5; 9 p.m. to 11 p.m.

(37) Lakeshore Country Club Independence Day Fireworks; Glencoe, IL. (i) Location. All waters of Lake Michigan within the arc of a circle with a 1000-foot radius from the fireworks launch site located in position 42°08′27″ N, 087°44′57″ W (NAD 83).

(ii) Enforcement date and time. July 4; 9 p.m. to 11 p.m. If the July 4 fireworks are cancelled due to inclement weather, then this section will be enforced July 5; 9 p.m. to 11 p.m.

(38) Shore Acres Country Club Independence Day Fireworks; Lake Bluff, IL. (i) Location. All waters of Lake Michigan, approximately one mile north of Lake Bluff, IL, within the arc of a circle with a 1000-foot radius from the fireworks launch site located in position 42°17′59″ N, 087°50′03″ W (NAD 83).

(ii) Enforcement date and time. July 4; 9 p.m. to 11 p.m. If the July 4 fireworks are cancelled due to inclement weather, then this section will be enforced July 5; 9 p.m. to 11 p.m.

(39) Kenosha Independence Day Fireworks; Kenosha, WI. (i) Location. All waters of Lake Michigan and Kenosha Harbor within the arc of a circle with a 1000-foot radius from the fireworks launch site located in position 42°35′17″ N, 087°48′27″ W (NAD 83).

(ii) Enforcement date and time. July 4; 9 p.m. to 11 p.m. If the July 4 fireworks are cancelled due to inclement weather, then this section will be enforced July 5; 9 p.m. to 11 p.m.

(40) Fourthfest of Greater Racine Fireworks; Racine, WI. (i) Location. All waters of Lake Michigan and Racine Harbor, in the vicinity of North Beach, within the arc of a circle with a 1000-foot radius from the fireworks launch site located in position 42°44′17″ N, 087°46′42″ W (NAD 83).

(ii) Enforcement date and time. July 4; 9 p.m. to 11 p.m. If the July 4 fireworks are cancelled due to inclement weather, then this section will be enforced July 5; 9 p.m. to 11 p.m.

(41) Sheboygan Fourth of July Celebration Fireworks; Sheboygan, WI. (i) Location. All waters of Lake Michigan and Sheboygan Harbor, in the vicinity of the south pier, within the arc of a circle with a 1000-foot radius from the fireworks launch site located in position 43°44′55″ N, 087°41′51″ W (NAD 83).

(ii) Enforcement date and time. July 4; 9 p.m. to 11 p.m. If the July 4 fireworks are cancelled due to inclement weather, then this section will be enforced July 5; 9 p.m. to 11 p.m.

(42) Manitowoc Independence Day Fireworks; Manitowoc, WI. (i) Location. All waters of Lake Michigan and Manitowoc Harbor, in the vicinity of south breakwater, within the arc of a circle with a 1000-foot radius from the fireworks launch site located in position 44°05′24″ N, 087°38′45″ W (NAD 83).

(ii) Enforcement date and time. July 4; 9 p.m. to 11 p.m. If the July 4 fireworks are cancelled due to inclement weather, then this section will be enforced July 5; 9 p.m. to 11 p.m.

(43) Sturgeon Bay Independence Day Fireworks; Sturgeon Bay, WI. (i) Location. All waters of Sturgeon Bay, in the vicinity of Sunset Park, within the arc of a circle with a 1000-foot radius from the fireworks launch site located on a barge in position 44°50′37″ N, 087°23′18″ W (NAD 83).

(ii) Enforcement date and time. July 4; 9 p.m. to 11 p.m. If the July 4 fireworks are cancelled due to inclement weather, then this section will be enforced July 5; 9 p.m. to 11 p.m.

(44) Fish Creek Independence Day Fireworks; Fish Creek, WI. (i) Location. All waters of Green Bay, in the vicinity of Fish Creek Harbor, within the arc of a circle with a 1000-foot radius from the fireworks launch site located on a barge in position 45°07′52″ N, 087°14′37″ W (NAD 83).

(ii) Enforcement date and time. The first Saturday after July 4; 9 p.m. to 11 p.m.

(45) Celebrate Americafest Fireworks; Green Bay, WI. (i) Location. All waters of the Fox River between the railroad bridge located 1.03 miles above the mouth of the Fox River and the Main Street Bridge located 1.58 miles above the mouth of the Fox River, including all waters of the turning basin east to the mouth of the East River.

(ii) Enforcement date and time. July 4; 9 p.m. to 11 p.m. If the July 4 fireworks are cancelled due to inclement weather, then this section will be enforced July 5; 9 p.m. to 11 p.m.

(46) Marinette Fourth of July Celebration Fireworks; Marinette, WI. (i) Location. All waters of the Menominee River, in the vicinity of Stephenson Island, within the arc of a circle with a 1000-foot radius from the fireworks launch site located in position 45°06′09″ N, 087°37′39″ W and all waters located between the Highway U.S. 41 bridge and the Hattie Street Dam (NAD 83).

(ii) Enforcement date and time. July 4; 9 p.m. to 11 p.m. If the July 4 fireworks are cancelled due to inclement weather, then this section will be enforced July 5; 9 p.m. to 11 p.m.

(47) Evanston Fourth of July Fireworks; Evanston, IL. (i) Location. All waters of Lake Michigan, in the vicinity of Centennial Park Beach, within the arc of a circle with a 500-foot radius from the fireworks launch site located in position 42°02′56″ N, 087°40′21″ W (NAD 83).

(ii) Enforcement date and time. July 4; 9 p.m. to 11 p.m. If the July 4 fireworks are cancelled due to inclement weather, then this section will be enforced July 5; 9 p.m. to 11 p.m.

(48) [Reserved]

(49) Muskegon Summer Celebration Fireworks; Muskegon, MI. (i) Location. All waters of Muskegon Lake, in the vicinity of Heritage Landing, within the arc of a circle with a 1000-foot radius from a fireworks barge located in position 43°14′00″ N, 086°15′50″ W (NAD 83).

(ii) Enforcement date and time. The Sunday following July 4; 9 p.m. to 11 p.m.

(iii) Impact on Special Anchorage Area regulations: Regulations for that portion of the Muskegon Lake East Special Anchorage Area, as described in 33 CFR 110.81(b), which are overlapped by this regulation, are suspended during this event. The remaining area of the Muskegon Lake East Special Anchorage Area is not impacted by this regulation and remains available for anchoring during this event.

(50) National Cherry Festival Air Show; Traverse City, MI. (i) Location. All waters of the West Arm of Grand Traverse Bay bounded by a line drawn from 44°46′48″ N, 085°38′18″ W, then southeast to 44°46′30″ N, 085°35′30″ W, then southwest to 44°46′00″ N, 085°35′48″ W, then northwest to 44°46′30″ N, 085°38′30″ W, then back to the point of origin (NAD 83).

(ii) Enforcement date and time. Friday, Saturday, and Sunday of the first complete weekend of July; 12 noon to 4 p.m. each day.

(51) National Cherry Festival Finale Fireworks; Traverse City, MI. (i) Location. All waters and adjacent shoreline of the West Arm of Grand Traverse Bay within the arc of a circle with a 1000-foot radius from the fireworks launch site located on a barge in position 44°46′12″ N, 085°37′06″ W (NAD 83).

(ii) Enforcement date and time. The second Saturday of July; 9 p.m. to 11 p.m.

(52) Gary Air and Water Show; Gary, IN. (i) Location. All waters of Lake Michigan within the arc of a circle with a 5.75 statute mile radius with its center point in position 41°37′25″ N, 087°15′42″ W (NAD 83).

(ii) Enforcement date and time. Friday, Saturday, and Sunday of the second weekend of July; from 8 a.m. to 6 p.m. each day.

(53) Milwaukee Air Expo, Milwaukee, WI. (i) Location. All waters Lake Michigan and Milwaukee Harbor located within a 4000-yard by 1000-yard rectangle with its major axis bearing approximately 030°T located in the northern half of Milwaukee Harbor and along the north shore of Milwaukee bounded by the points beginning at 43°01′36″ N, 087°53′02″ W; then northeast to 43°03′20″ N, 087°51′40″ W; then northwest to 43°03′35″ N, 087°52′16″ W; then southwest to 43°01′51″ N, 087°53′38″ W; the back to the point of origin (NAD 83).

(ii) Enforcement date and time. Friday, Saturday, and Sunday of the second weekend of July; from 1 p.m. to 5 p.m. each day.

(54) Annual Trout Festival Fireworks; Kewaunee, WI. (i) Location. All waters of Kewaunee Harbor and Lake Michigan within the arc of a circle with a 1000-foot radius from the fireworks launch site located in position 44°27′29″ N, 087°29′45″ W (NAD 83).

(ii) Enforcement date and time. Friday of the second complete weekend of July; 9 p.m. to 11 p.m.

(55) Michigan City Summerfest Fireworks; Michigan City, IN. (i) Location. All waters of Michigan City Harbor and Lake Michigan within the arc of a circle with a 1000-foot radius from the fireworks launch site located in position 41°43′42″ N, 086°54′37″ W (NAD 83).

(ii) Enforcement date and time. July 15, 2007, and thereafter the Sunday of the first complete weekend of July; 9 p.m. to 11 p.m.

(56) Port Washington Fish Day Fireworks; Port Washington, WI. (i) Location. All waters of Port Washington Harbor and Lake Michigan, in the vicinity of the WE Energies coal dock, within the arc of a circle with a 1000-foot radius from the fireworks launch site located in position 43°23′07″ N, 087°51′54″ W (NAD 83).

(ii) Enforcement date and time. The third Saturday of July; 9 p.m. to 11 p.m.

(57) Bay View Lions Club South Shore Frolics Fireworks; Milwaukee, WI. (i) Location. All waters of Milwaukee Harbor and Lake Michigan, in the vicinity of South Shore Park, within the arc of a circle with a 500-foot radius from the fireworks launch site in position 42°59′42″ N, 087°52′52″ W (NAD 83).

(ii) Enforcement date and time. Friday, Saturday, and Sunday of the second or third weekend of July; 9 p.m. to 11 p.m. each day.

(58) Venetian Festival Fireworks; St. Joseph, MI. (i) Location. All waters of Lake Michigan and the St. Joseph River, near the east end of the south pier, within the arc of a circle with a 1000-foot radius from the fireworks launch site located in position 42°06′48″ N, 086°29′15″ W (NAD 83).

(ii) Enforcement date and time. Saturday of the third complete weekend of July; 9 p.m. to 11 p.m.

(59) Joliet Waterway Daze Fireworks; Joliet, IL. (i) Location. All waters of the Des Plaines River, at mile 287.5, within the arc of a circle with a 300-foot radius from the fireworks launch site located in position 41°31′15″ N, 088°05′17″ W (NAD 83).

(ii) Enforcement date and time. Friday and Saturday of the third complete weekend of July; 9 p.m. to 11 p.m. each day.

(60) Charlevoix Venetian Festival Friday Night Fireworks; Charlevoix, MI. (i) Location. All waters of Lake Charlevoix, in the vicinity of Depot Beach, within the arc of a circle with a 1000-foot radius from the fireworks launch site located on a barge in position 45°19′08″ N, 085°14′18″ W (NAD 83).

(ii) Enforcement date and time. Friday of the fourth weekend of July; 9 p.m. to 11 p.m.

(61) EAA Airventure; Oshkosh, WI. (i) Location. All waters of Lake Winnebago bounded by a line drawn from 43°57′30″ N, 088°30′00″ W; then south to 43°56′56″ N, 088°29′53″ W, then east to 43°56′40″ N, 088°28′40″ W; then north to 43°57′30″ N, 088°28′40″ W; then west returning to the point of origin (NAD 83).

(ii) Enforcement date and time. The last complete week of July, beginning Monday and ending Sunday; from 8 a.m. to 8 p.m. each day.

(62) Charlevoix Venetian Festival Saturday Night Fireworks; Charlevoix, MI. (i) Location. All waters of Round Lake within the arc of a circle with a 300-foot radius from the fireworks launch site located on a barge in position 45°19′03″ N, 085°15′18″ W (NAD 83).

(ii) Enforcement date and time. Saturday of the fourth weekend of July; 9 p.m. to 11 p.m.

(63) Venetian Night Fireworks; Saugatuck, MI. (i) Location. All waters of Kalamazoo Lake within the arc of a circle with a 500-foot radius from the fireworks launch site located on a barge in position 42°38′52″ N, 086°12′18″ W (NAD 83)

(ii) Enforcement date and time. The last Saturday of July; 9 p.m. to 11 p.m.

(64) Roma Lodge Italian Festival Fireworks; Racine, WI. (i) Location. All waters of Lake Michigan and Racine Harbor within the arc of a circle with a 1000-foot radius from the fireworks launch site located in position 42°44′04″ N, 087°46′20″ W (NAD 83).

(ii) Enforcement date and time. Friday and Saturday of the last complete weekend of July; 9 p.m. to 11 p.m.

(65) Venetian Night Fireworks; Chicago, IL. (i) Location. All waters of Monroe Harbor and Lake Michigan within the arc of a circle with a 1000-foot radius from the fireworks launch site located on a barge in position 41°52′41″ N, 087°36′37″ W (NAD 83).

(ii) Enforcement date and time. Saturday of the last weekend of July; 9 p.m. to 11 p.m.

(66) Port Washington Maritime Heritage Festival Fireworks; Port Washington, WI. (i) Location. All waters of Port Washington Harbor and Lake Michigan, in the vicinity of the WE Energies coal dock, within the arc of a circle with a 1000-foot radius from the fireworks launch site located in position 43°23′07″ N, 087°51′54″ W (NAD 83).

(ii) Enforcement date and time. Saturday of the last complete weekend of July or the second weekend of August; 9 p.m. to 11 p.m.

(67) [Reserved]

(68) Grand Haven Coast Guard Festival Fireworks; Grand Haven, MI. (i) Location. All waters of the Grand River between longitude 087°14′00″ W, near The Sag, then west to longitude 087°15′00″ W, near the west end of the south pier (NAD 83).

(ii) Enforcement date and time. First weekend of August; 9 p.m. to 11 p.m.

(69) Sturgeon Bay Yacht Club Evening on the Bay Fireworks; Sturgeon Bay, WI. (i) Location. All waters of Sturgeon Bay, in the vicinity of the Sturgeon Bay Yacht Club, within the arc of a circle with a 500-foot radius from the fireworks launch site located on a barge in position 44°49′33″ N, 087°22′26″ W (NAD 83).

(ii) Enforcement date and time. The first Saturday of August; 9 p.m. to 11 p.m.

(70) Elk Rapids Harbor Days Fireworks; Elk Rapids, MI. (i) Location. All waters of Grand Traverse Bay, in the vicinity of Edward G. Grace Memorial Park, within the arc of a circle with a 1000-foot radius from the fireworks launch site located in position 44°53′58″ N, 085°25′04″ W (NAD 83).

(ii) Enforcement date and time. The first Saturday of August; 9 p.m. to 11 p.m.

(71) Hammond Marina Venetian Night Fireworks; Hammond, IN. (i) Location. All waters of Hammond Marina and Lake Michigan within the arc of a circle with a 1000-foot radius from the fireworks launch site located in position 41°41′53″ N, 087°30′43″ W (NAD 83).

(ii) Enforcement date and time. The first Saturday of August; 9 p.m. to 11 p.m.

(72) North Point Marina Venetian Festival Fireworks; Winthrop Harbor, IL. (i) Location. All waters of Lake Michigan within the arc of a circle with a 1000-foot radius from the fireworks launch site located in position 42°28′55″ N, 087°47′56″ W (NAD 83).

(ii) Enforcement date and time. The second Saturday of August; 9 p.m. to 11 p.m.

(73) Waterfront Festival Fireworks; Menominee MI. (i) Location. All waters of Green Bay, in the vicinity of Menominee Marina, within the arc of a circle with a 1000-foot radius from a fireworks barge in position 45°06′17″ N, 087°35′48″ W (NAD 83).

(ii) Enforcement date and time. Saturday following first Thursday in August; 9 p.m. to 11 p.m.

(74) Ottawa Riverfest Fireworks; Ottawa, IL. (i) Location. All waters of the Illinois River, at mile 239.7, within the arc of a circle with a 300-foot radius from the fireworks launch site located in position 41°20′29″ N, 088°51′20″ W (NAD 83).

(ii) Enforcement date and time. The first Sunday of August; 9 p.m. to 11 p.m.

(75) Algoma Shanty Days Fireworks; Algoma WI. (i) Location. All waters of Lake Michigan and Algoma Harbor within the arc of a circle with a 1000-foot radius from the fireworks launch site located in position 44°36′24″ N, 087°25′54″ W (NAD 83).

(ii) Enforcement date and time. Sunday of the second complete weekend of August; 9 p.m. to 11 p.m.

(76) New Buffalo Ship and Shore Festival Fireworks; New Buffalo, MI. (i) Location. All waters of Lake Michigan and New Buffalo Harbor within the arc of a circle with a 1000-foot radius from the fireworks launch site located in position 41°48′09″ N, 086°44′49″ W (NAD 83).

(ii) Enforcement date and time. The second Sunday of August; 9 p.m. to 11 p.m.

(77) Pentwater Homecoming Fireworks; Pentwater, MI. (i) Location. All waters of Lake Michigan and the Pentwater Channel within the arc of a circle with a 1000-foot radius from the fireworks launch site located in position 43°46′56.5″ N, 086°26′38″ W (NAD 83).

(ii) Enforcement date and time. Saturday following the second Thursday of August; 9 p.m. to 11 p.m.

(78) Chicago Air and Water Show; Chicago, IL. (i) Location. All waters and adjacent shoreline of Lake Michigan and Chicago Harbor bounded by a line drawn from 41°55′54″ N at the shoreline, then east to 41°55′54″ N, 087°37′12″ W, then southeast to 41°54′00″ N, 087°36′00″ W (NAD 83), then southwestward to the northeast corner of the Jardine Water Filtration Plant, then due west to the shore.

(ii) Enforcement date and time. The third Thursday, Friday, Saturday, and Sunday of August; from 9 a.m. to 6 p.m. each day.

(79) [Reserved]

(80) Downtown Milwaukee BID 21 Fireworks; Milwaukee, WI. (i) Location. All waters of the Milwaukee River between the Kilbourn Avenue Bridge at 1.7 miles above the Milwaukee Pierhead Light to the State Street Bridge at 1.79 miles above the Milwaukee Pierhead Light.

(ii) Enforcement date and time. The third Thursday of November; 6 p.m. to 8 p.m.

(81) New Years Eve Fireworks; Chicago, IL. (i) Location. All waters of Monroe Harbor and Lake Michigan within the arc of a circle with a 1000-foot radius from the fireworks launch site located on a barge in position 41°52′41″ N, 087°36′37″ W (NAD 83).

(ii) Enforcement date and time. December 31; 11 p.m. to January 1; 1 a.m.

(b) Definitions. The following definitions apply to this section:

(1) Designated representative means any Coast Guard commissioned, warrant, or petty officer designated by the Captain of the Port Lake Michigan to monitor this safety zone, permit entry into this zone, give legally enforceable orders to persons or vessels within this zones and take other actions authorized by the Captain of the Port.

(2) Public vessel means vessels owned, chartered, or operated by the United States, or by a State or political subdivision thereof.

(c) Regulations. (1) The general regulations in 33 CFR 165.23 apply.

(2) All persons and vessels must comply with the instructions of the Coast Guard Captain of the Port or a designated representative. Upon being hailed by the U.S. Coast Guard by siren, radio, flashing light or other means, the operator of a vessel shall proceed as directed.

(3) All vessels must obtain permission from the Captain of the Port or a designated representative to enter, move within or exit the safety zone established in this section when this safety zone is enforced. Vessels and persons granted permission to enter the safety zone shall obey all lawful orders or directions of the Captain of the Port or a designated representative. While within a safety zone, all vessels shall operate at the minimum speed necessary to maintain a safe course.

(d) Suspension of Enforcement. If the event concludes earlier than scheduled, the Captain of the Port or a designated representative will issue a Broadcast Notice to Mariners notifying the public when enforcement of the safety zone established by this section is suspended.

(e) Exemption. Public vessels as defined in paragraph (b) of this section are exempt from the requirements in this section.

(f) Wavier. For any vessel, the Captain of the Port Lake Michigan or a designated representative may waive any of the requirements of this section, upon finding that operational conditions or other circumstances are such that application of this section is unnecessary or impractical for the purposes of safety or environmental safety.

§ 165.909 [Removed]

3. Remove and reserve § 165.909.

§ 165.918 [Removed]

4. Remove and reserve § 165.918.

Dated: June 5, 2007.
Bruce C. Jones,
Captain, U.S. Coast Guard, Captain of the Port Lake Michigan.

[FR Doc. E7-11262 Filed 6-11-07; 8:45 am]

BILLING CODE 4910-15-P